DEPARTMENT OF EDUCATION

International Resource Information System (IRIS); Title; OMB Number; Correction

AGENCY: Department of Education.

ACTION: Correction Notice.

SUMMARY: On August 4, 2015 the U.S. Department of Education published a 30-day comment period notice in the Federal Register Page 46253 Column 3; Page 46254, Column 1 seeking public comment for an information collection Docket ID Number ED-2014-ICCD-0154 entitled, “Evaluation of the Pell Grant Experiments under the Experimental Sites Initiative”. ED is requesting a correction to the Title and OMB Number. The correct title is International Resource Information System (IRIS), and the correct OMB Number is 1840-0759.

The Acting Director, Information Collection Clearance Division, Office of the Chief Privacy Officer, Office of Management, hereby issues a correction notice as required by the Paperwork Reduction Act of 1995.

Dated: August 4, 2015.
Kate Mullan,
Acting Director, Information Collection Clearance Division, Privacy, Information and Records Management Services, Office of Management.

[FR Doc. 2015-19442 Filed 8-6-15; 8:45 am]

BILLING CODE 4000-01-P